DEPARTMENT OF LABOR

Employment and Training Administration

[TA-W-65,635]

Astellas Pharma Manufacturing, Inc.; Grand Island, NY; Notice of Termination of Investigation

Pursuant to Section 221 of the Trade Act of 1974, as amended, an investigation was initiated on March 19, 2009 in response to a petition filed on behalf of workers of Astellas Pharma Manufacturing, Inc., Grand Island, New York.

The petitioners have requested that the petition be withdrawn. Consequently, the investigation has been terminated.

Signed at Washington, DC, this 30th day of March 2009.
Linda G. Poole,
Certifying Officer, Division of Trade Adjustment Assistance.

[FR Doc. E9-10238 Filed 5-4-09; 8:45 am]

BILLING CODE 4510-FN-P